FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 23, 2000.

A. Federal Reserve Bank of Kansas City (D. Michael Manies, Assistant Vice President), 925 Grand Avenue, Kansas City, Missouri 64198-0001:

1. William P. Johnson, Boulder, Colorado; to acquire voting shares of FirstBank Holding Company of Colorado, Lakewood, Colorado, and thereby indirectly acquire voting shares of FirstBank, Littleton, Colorado; FirstBank of Adams County, Thornton, Colorado; FirstBank of El Paso County, Colorado Springs, Colorado; FirstBank of Arvada, Arvada, Colorado; FirstBank of Aurora, Aurora, Colorado; FirstBank of Avon, Avon, Colorado; FirstBank of Boulder, Boulder, Colorado; FirstBank of Breckenridge, Breckenridge, Colorado; FirstBank of Douglas County, Castle Rock, Colorado; FirstBank of Colorado Springs, Colorado Springs, Colorado; FirstBank of Cherry Creek, Denver, Colorado; FirstBank of Denver, Denver, Colorado; FirstBank of Longmont, Longmont, Colorado; FirstBank of Evergreen, Evergreen, Colorado; FirstBank of Northern Colorado, Fort Collins, Colorado; FirstBank of Greeley, Greeley, Colorado; FirstBank of Tech Center, Englewood, Colorado; FirstBank of Colorado, Lakewood, Colorado; FirstBank of South Jeffco, Littleton, Colorado; FirstBank of Lakewood, Lakewood, Colorado; FirstBank of Littleton, Littleton, Colorado; FirstBank of Arapahoe County, Littleton, Colorado; FirstBank of Parker, Parker, Colorado; FirstBank of Silverthorne, Silverthorne, Colorado; FirstBank of Vail, Vail, Colorado; FirstBank of North, Westminster, Colorado; and FirstBank of Wheat Ridge, Wheat Ridge, Colorado.

Board of Governors of the Federal Reserve System, June 5, 2000.
Robert deV. Frierson,
Associate Secretary of the Board.

[FR Doc. 00-14545 Filed 6-8-00; 8:45 am]

BILLING CODE 6210-01-P